DEPARTMENT OF HOMELAND SECURITY

Federal Emergency Management Agency

[FEMA-1518-DR]

Iowa; Amendment No. 1 to Notice of a Major Disaster Declaration

AGENCY: Federal Emergency Management Agency, Emergency Preparedness and Response Directorate, Department of Homeland Security.

ACTION: Notice.

SUMMARY: This notice amends the notice of a major disaster declaration for the State of Iowa (FEMA-1518-DR), dated May 25, 2004, and related determinations.

EFFECTIVE DATE: June 2, 2004.

FOR FURTHER INFORMATION CONTACT: Magda Ruiz, Recovery Division, Federal Emergency Management Agency, Washington, DC 20472, (202) 646-2705.

SUPPLEMENTARY INFORMATION: The notice of a major disaster declaration for the State of Iowa is hereby amended to include the following areas among those areas determined to have been adversely affected by the catastrophe declared a major disaster by the President in his declaration of May 25, 2004:

Adair, Adams, Allamakee, Audubon, Benton, Black Hawk, Boone, Buena Vista, Calhoun, Cedar, Chickasaw, Clay, Clinton, Dallas, Dubuque, Floyd, Franklin, Greene, Grundy, Guthrie, Hardin, Howard, Iowa, Jackson, Jasper, Johnson, Kossuth, Madison, Marshall, Montgomery, Palo Alto, Polk, Pottawattamie, Poweshiek, Sac, Shelby, Story, Tama, Warren, Webster, Winnebago, Winneshiek, Worth, and Wright Counties for Individual Assistance.

Michael D. Brown,
Under Secretary, Emergency Preparedness and Response, Department of Homeland Security.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individual and Household Housing; 97.049, Individual and Household Disaster Housing Operations; 97.050 Individual and Household Program-Other Needs, 97.036, Public Assistance Grants; 97.039, Hazard Mitigation Grant Program.)

[FR Doc. 04-13461 Filed 6-14-04; 8:45 am]

BILLING CODE 9110-10-P